DEPARTMENT OF ENERGY

Federal Energy Regulatory Commission

Combined Notice of Filings #2

Take notice that the Commission received the following electric corporate filings:

Docket Numbers: EC17-47-000.

Applicants: Wisconsin Power and Light Company, Wisconsin Public Service Corporation, Madison Gas and Electric Company.

Description: Amendment to December 13, 2016 Joint Amendment to December 13, 2016 Joint Application (Revised Pro Forma Accounting Entries) under Section 203 of the Federal Power Act of Wisconsin Power and Light Company, et al.

Filed Date: 2/9/17.

Accession Number: 20170209-5266.

Comments Due: 5 p.m. ET 3/2/17.

Docket Numbers: EC17-60-000.

Applicants: TerraForm Private LLC, Meadow Creek Project Company LLC, Goshen Phase II LLC, Wolverine Creek Goshen Interconnection LLC, Canadian Hills Wind, LLC, Rockland Wind Farm LLC, Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Supplement to January 6, 2017 Application for Authorization under Section 203 of the FPA of TerraForm Private LLC, et al.

Filed Date: 2/9/17.

Accession Number: 20170209-5275.

Comments Due: 5 p.m. ET 2/21/17.

Take notice that the Commission received the following electric rate filings:

Docket Numbers: ER17-763-001.

Applicants: Wabash Valley Power Association, Inc.

Description: Tariff Amendment: Submission of Corrected Formulary Rate Tariff Depreciation Rates to be effective 3/10/2017.

Filed Date: 2/10/17.

Accession Number: 20170210-5062.

Comments Due: 5 p.m. ET 3/3/17.

Docket Numbers: ER17-957-000.

Applicants: PJM Interconnection, L.L.C.

Description: § 205(d) Rate Filing: Rev OATT & OA RE Clarifications Related to Pumped Storage to be effective 4/11/2017.

Filed Date: 2/10/17.

Accession Number: 20170210-5054.

Comments Due: 5 p.m. ET 3/3/17.

Docket Numbers: ER17-958-000.

Applicants: Southern California Edison Company.

Description: § 205(d) Rate Filing: Letter Agreement Stanton Energy Reliability Center Project SA No. 945 to be effective 2/3/2017.

Filed Date: 2/10/17.

Accession Number: 20170210-5072.

Comments Due: 5 p.m. ET 3/3/17.

Docket Numbers: ER17-959-000.

Applicants: PJM Interconnection, L.L.C.

Description: § 205(d) Rate Filing: Revised ISA, Service Agreement No. 1816, Queue No U1-032—Assigned to City Point to be effective 9/28/2009.

Filed Date: 2/10/17.

Accession Number: 20170210-5122.

Comments Due: 5 p.m. ET 3/3/17.

Docket Numbers: ER17-960-000.

Applicants: Cedar Bay Generating Company, Limited Partnership.

Description: Tariff Cancellation: FPL on Behalf of Cedar Bay Generating Company, L P PPA (Tolling) Cancellation to be effective 1/1/2017.

Filed Date: 2/10/17.

Accession Number: 20170210-5124.

Comments Due: 5 p.m. ET 3/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2017.
Nathaniel J. Davis, Sr.,
Deputy Secretary.

[FR Doc. 2017-03219 Filed 2-16-17; 8:45 am]

BILLING CODE 6717-01-P